DEPARTMENT OF THE INTERIOR

Bureau of Land Management

[LLCO-923000 L14300000 ET0000; COC-0124534]

Notice of Public Meeting for Proposed Withdrawal Extension; Colorado

AGENCY: Bureau of Land Management, Interior.

ACTION: Notice of Public Meeting.

SUMMARY: In accordance with the Federal Land Policy and Management Act of 1976 (FLPMA), the U.S. Department of the Interior, Bureau of Land Management (BLM) will hold a public meeting regarding the proposed Fort Carson and Pinon-Canyon Maneuver Site withdrawal extension. The U.S. Army will be present. The proposed withdrawal extension was published in the Federal Register (FR Doc. 2011-14151 Filed 6-7-11; 8:45 am).

DATES: The BLM will hold the public meeting on August 2, 2011, in Pueblo, Colorado.

The meeting will begin at 6 p.m. and adjourn at approximately 8 p.m. and will include an opportunity for public comment.

ADDRESSES: The public meeting will be held at the Sangre De Cristo Arts and Conference Center, 210 N. Santa Fe Ave., Pueblo, Colorado.

FOR FURTHER INFORMATION CONTACT: John D. Beck, Chief, Branch of Lands and Realty, BLM Colorado State Office, (303) 239-3882. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM, accompanied by the U.S. Army, will hold a public meeting to discuss the proposed extension of the Fort Carson and Pinon-Canyon Maneuver Site military lands withdrawal. Public Law 104-201 of September 23, 1996, (110 Stat. 2807) withdrew 3,133 acres of public lands and 11,415 acres of Federally-owned minerals from all forms of appropriation under all appropriate public land laws including mining and mineral laws, geothermal leasing laws and mineral materials disposal laws, to protect the Fort Carson military reservation. The proposed withdrawal extension also includes withdrawal of 2,517 acres of public lands and approximately 130,139 acres of federally-owned minerals from all forms of appropriation under all appropriate public land laws including mining and mineral laws, geothermal leasing laws and mineral materials disposal laws to protect the Army's Pinon-Canyon Maneuver Site. The public domain lands and minerals are in El Paso, Pueblo, Fremont, and Las Animas counties, Colorado. The extension, if approved, would withdraw these lands for an additional 15 years.

This meeting is open to the public and will include time for public comments. Depending on the number of persons wishing to comment and time available, the time for individual oral comments may be limited.

Authority: 43 CFR 2310.3-1.

June 24, 2011.
Anna Marie Burden,
Acting State Director.

[FR Doc. 2011-16569 Filed 6-30-11; 8:45 am]

BILLING CODE 3720-58-P